DEPARTMENT OF TRANSPORTATION

Federal Aviation Administration

14 CFR Part 39

[Docket No. FAA-2020-0334; Product Identifier 2020-NM-014-AD]

RIN 2120-AA64

Airworthiness Directives; Gulfstream Aerospace LP Airplanes

AGENCY: Federal Aviation Administration (FAA), DOT.

ACTION: Notice of proposed rulemaking (NPRM).

SUMMARY: The FAA proposes to adopt a new airworthiness directive (AD) for certain Gulfstream Aerospace LP Model Gulfstream G280 airplanes. This proposed AD was prompted by a report of inadequate clearance between the fuel probes and forward fuel tank structure. This proposed AD would require measuring the clearance between certain fuel probes and the forward fuel tank structure, and reinstalling the probes if necessary, as specified in a Civil Aviation Authority of Israel (CAAI) AD, which will be incorporated by reference. The FAA is proposing this AD to address the unsafe condition on these products.

DATES: The FAA must receive comments on this proposed AD by June 11, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For the material identified in this proposed AD that will be incorporated by reference (IBR), contact the CAAI, Mr. Vladimir Novicov, Engineering Branch, CAAI—P.O. Box 1101, 3 Golan Street, Airport City, Israel, 70151; telephone 972-3-9774529; fax 972-3-9774592; email novicovv@mot.gov.il. You may find this IBR material on the CAAI website at www.caa.gov.il. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0334.

Examining the AD Docket

You may examine the AD docket on the internet at https://www.regulations.gov by searching for and locating Docket No. FAA-2020-0334; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Tom Rodriguez, Aerospace Engineer, Large Aircraft Section, International Validation Branch, FAA, 2200 South 216th St., Des Moines, WA 98198; telephone and fax 206-231-3226; email tom.rodriguez@faa.gov.

SUPPLEMENTARY INFORMATION:

Comments Invited

The FAA invites you to send any written relevant data, views, or arguments about this proposal. Send your comments to an address listed under the ADDRESSES section. Include “Docket No. FAA-2020-0334; Product Identifier 2020-NM-014-AD” at the beginning of your comments. The FAA specifically invites comments on the overall regulatory, economic, environmental, and energy aspects of this NPRM. The FAA will consider all comments received by the closing date and may amend this NPRM based on those comments.

The FAA will post all comments received, without change, to https://www.regulations.gov, including any personal information you provide. The FAA will also post a report summarizing each substantive verbal contact received about this NPRM.

Discussion

The CAAI, which is the aviation authority for Israel, has issued Israeli AD ISR-I-53-19-10-5, dated October 10, 2019 (“Israeli AD ISR-I-53-19-10-5”) (also referred to as the Mandatory Continuing Airworthiness Information, or “the MCAI”), to correct an unsafe condition for certain Gulfstream Aerospace LP Model Gulfstream G280 airplanes.

This proposed AD was prompted by a report of inadequate clearance between certain fuel probes (probe No.1 and probe No.3) and the forward fuel tank structure. The FAA is proposing this AD to address such inadequate clearance, which could result in a potential source of ignition in a fuel tank, possible fire, and consequent reduced structural integrity of the airplane. See the MCAI for additional background information.

Related IBR Material Under 1 CFR Part 51

Israeli AD ISR-I-53-19-10-5 requires checking the clearance between forward fuel probes No. 1 and aft probe No. 3 and the forward fuel tank structure, by measuring each probe's distance to the adjacent skin, and adjusting the clearance, including reinstallation of the probes at the correct distance if necessary. This material is reasonably available because the interested parties have access to it through their normal course of business or by the means identified in the ADDRESSES section.

FAA's Determination and Requirements of This Proposed AD

This product has been approved by the aviation authority of another country, and is approved for operation in the United States. Pursuant to a bilateral agreement with the State of Design Authority, the FAA has been notified of the unsafe condition described in the MCAI referenced above. The FAA is proposing this AD because we evaluated all the relevant information and determined the unsafe condition described previously is likely to exist or develop in other products of the same type design.

Proposed AD Requirements

This proposed AD would require accomplishing the actions specified in Israeli AD ISR-I-53-19-10-5 described previously, as incorporated by reference.

Explanation of Required Compliance Information

In the FAA's ongoing efforts to improve the efficiency of the AD process, the FAA initially worked with Airbus and the European Union Aviation Safety Agency (EASA) to develop a process to use certain EASA ADs as the primary source of information for compliance with requirements for corresponding FAA ADs. The FAA has since coordinated with other manufacturers and civil aviation authorities to use this process. As a result, Israeli AD ISR-I-53-19-10-5 will be incorporated by reference in the FAA final rule. This proposed AD would, therefore, require compliance with Israeli AD ISR-I-53-19-10-5 in its entirety, through that incorporation, except for any differences identified as exceptions in the regulatory text of this proposed AD. Service information specified in Israeli AD ISR-I-53-19-10-5 that is required for compliance with Israeli AD ISR-I-53-19-10-5 will be available on the internet at https://www.regulations.gov by searching for and locating Docket No. FAA-2020-0334 after the FAA final rule is published.

Costs of Compliance

The FAA estimates that this proposed AD affects 80 airplanes of U.S. registry. The FAA estimates the following costs to comply with this proposed AD:

Estimated Costs for Required Actions
Labor cost | Parts cost | Cost per product | Cost on U.S. operators
Up to 20 work-hours × $85 per hour = $1,700 | $0 | Up to $1,700 | Up to $136,000.

According to the manufacturer, some or all of the costs of this proposed AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Gulfstream Aerospace LP: Docket No. FAA-2020-0334; Product Identifier 2020-NM-014-AD.

(a) Comments Due Date

The FAA must receive comments by June 11, 2020.

(b) Affected ADs

None.

(c) Applicability

This AD applies to certain Gulfstream Aerospace LP Model Gulfstream G280 airplanes, certificated in any category, as identified in Civil Aviation Authority of Israel (CAAI) AD ISR-I-53-19-10-5, dated October 10, 2019 (“Israeli AD ISR-I-53-19-10-5”).

(d) Subject

Air Transport Association (ATA) of America Code 53, Fuselage.

(e) Reason

This AD was prompted by a report of inadequate clearance between the fuel probes and forward fuel tank structure. The FAA is issuing this AD to address such inadequate clearance, which could result in a potential source of ignition in a fuel tank, possible fire, and consequent reduced structural integrity of the airplane.

(f) Compliance

Comply with this AD within the compliance times specified, unless already done.

(g) Requirements

Except as specified in paragraph (h) of this AD: Comply with all required actions and compliance times specified in, and in accordance with, Israeli AD ISR-I-53-19-10-5.

(h) Exceptions and Clarifications of Israeli AD ISR-I-53-19-10-5

(1) Where Israeli AD ISR-I-53-19-10-5 refers to its effective date, this AD requires using the effective date of this AD.

(2) Where Israeli AD ISR-I-53-19-10-5 requires operators to “check . . . clearance between fuel probes and forward fuel tank structure,” this AD requires measuring the specified probes' distance to the adjacent skin.

(3) Where Israeli AD ISR-I-53-19-10-5 requires operators to “adjust clearance” for the corrective action, this AD requires reinstallation of the probe at the correct distance.

(4) Israeli AD ISR-I-53-19-10-5 requires compliance “at the next suitable planned maintenance inspection within the next 36 months.” This AD requires compliance within 36 months after the effective date of this AD.

(5) The rework (reinstallation of the fuel probes at the correct distance) required for inadequate clearance must be done before further flight after the measurement.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, Large Aircraft Section, International Validation Branch, FAA; or the CAAI; or CAAI's authorized Designee. If approved by the CAAI Designee, the approval must include the Designee's authorized signature.

(j) Related Information

(1) For information about Israeli AD ISR-I-53-19-10-5, contact the CAAI, Mr. Vladimir Novicov, Engineering Branch, CAAI—P.O. Box 1101, 3 Golan Street, Airport City, Israel, 70151, telephone 972-3-9774529, fax 972-3-9774592; email novicovv@mot.gov.il. You may find this incorporated by reference (IBR) material on the CAAI website at www.caa.gov.il. You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0334.

(2) For more information about this AD, contact Tom Rodriguez, Aerospace Engineer, Large Aircraft Section, International Validation Branch, FAA, 2200 South 216th St., Des Moines, WA 98198; telephone and fax 206-231-3226; email tom.rodriguez@faa.gov.

Issued on April 16, 2020.
Gaetano A. Sciortino,
Deputy Director for Strategic Initiatives, Compliance & Airworthiness Division, Aircraft Certification Service.

[FR Doc. 2020-08751 Filed 4-24-20; 8:45 am]

BILLING CODE 4910-13-P